DEPARTMENT OF COMMERCE

Foreign-Trade Zones Board

[B-21-2019]

Foreign-Trade Zone (FTZ) 291—Cameron Parish, Louisiana; Notification of Proposed Production Activity; Cheniere Energy Partners, L.P. (Liquified Natural Gas), Cameron, Louisiana

Cheniere Energy Partners, L.P. (Cheniere) submitted a notification of proposed production activity to the FTZ Board for its facility in Cameron, Louisiana. The notification conforming to the requirements of the regulations of the FTZ Board (15 CFR 400.22) was received on March 25, 2019.

The Cheniere facility is located within Site 1 of FTZ 291. The facility is used for the production of liquified natural gas. Pursuant to 15 CFR 400.14(b), FTZ activity would be limited to the specific foreign-status material and specific finished products described in the submitted notification (as described below) and subsequently authorized by the FTZ Board.

Production under FTZ procedures could exempt Cheniere from customs duty payments on the foreign-status gaseous natural gas (duty free) used in export production. On its domestic sales, for the foreign-status gaseous natural gas, Cheniere would be able to choose the duty rates during customs entry procedures that apply to liquified natural gas and stabilized gas condensate (duty rates are duty-free and 10 cents/barrel, respectively). Cheniere would be able to avoid duty on foreign-status components which become scrap/waste. Customs duties also could possibly be deferred or reduced on foreign-status production equipment.

The request indicates that gaseous natural gas is subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary at the address below. The closing period for their receipt is May 20, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Diane Finver at Diane.Finver@trade.gov or (202) 482-1367.

Dated: April 3, 2019.
Andrew McGilvray,
Executive Secretary.

[FR Doc. 2019-06979 Filed 4-8-19; 8:45 am]

BILLING CODE 3510-DS-P